ENVIRONMENTAL PROTECTION AGENCY

[FRL-8263-6]

Total Coliform Rule / Distribution System Stakeholder Technical Workshop and Request for Nominations

AGENCY: Environmental Protection Agency.

ACTION: Notice; public meeting.

SUMMARY: The Environmental Protection Agency (EPA) is holding a technical workshop in Washington, DC, to discuss available information on the Total Coliform Rule (TCR) and available information regarding risks in distribution systems in support of revisions to the TCR. The TCR provides public health protection from microbial contamination in drinking water while indicating the adequacy of treatment and the integrity of drinking water distribution systems. As part of the technical workshop, EPA is seeking information and analytic approaches for characterizing risks posed by the distribution system. Subsequently, if results from the workshop indicate that a formal consensus building process is appropriate for the revision effort, the Agency will consider establishing a Committee under the Federal Advisory Committee Act to provide advice and recommendations on how best to utilize available information for potential revisions to the TCR and to address public health risks from contamination of distribution systems. In addition, such a Committee could provide recommendations to determine if further information is needed to be collected to address health risks associated with distribution systems.

To prepare in advance for the potential establishment of a Federal Advisory Committee, EPA is soliciting nominations for membership on the Committee in this notice.

DATES: The public meeting will be held on Tuesday, January 30, 2007, through Thursday, February 1, 2007, from 8:00 a.m. to 5:30 p.m., Eastern time (ET). Attendees should register for the meeting by calling Jason Peller at (202) 965-6387 or by e-mail to jpeller@resolv.org no later than January 20, 2006.

Submit nominations for a potential Federal Advisory Committee on or before January 29, 2007.

ADDRESSES: The meeting will be held at the Capital Hilton, at 1001 16th Street NW, Washington, DC 20036. Nomination materials for the potential Federal Advisory Committee should be submitted to Jini Mohanty by email to tcr@epa.gov or by U.S. Mail to the Office of Ground Water and Drinking Water, Office of Water, Mail Code 4607M, Environmental Protection Agency, 1200 Pennsylvania Avenue, NW, Washington, DC 20460.

FOR FURTHER INFORMATION CONTACT: For general information, contact the Drinking Water Hotline at 1-800-426-4791 or go to the Internet site http://www.epa.gov/safewater/disinfection/tcr/index.html. For technical inquiries, contact Tom Grubbs, Standards and Risk Management Division, Office of Ground Water and Drinking Water (MC 4607M), Environmental Protection Agency, 1200 Pennsylvania Ave., NW., Washington, DC 20460; telephone number: (202) 564-5262; fax number: (202) 564-3767; e-mail address: grubbs.thomas@epa.gov. For special accommodation questions, email Jini Mohanty, at mohanty.jini@epa.gov, or call (202) 564 5269.

SUPPLEMENTARY INFORMATION: The Stage 2 Microbial and Disinfection Byproducts Federal Advisory Committee, as part of its recommendations concerning the Long-Term 2 Enhanced Surface Water Treatment Rule and the Stage 2 Disinfection Byproducts Rule, concluded in its Agreement in Principle (65 FR 83015, December 29, 2000) that EPA should evaluate available data and research on aspects of distribution systems that may create risks to public health as a part of the Six-Year Review of the TCR. They also concluded that EPA should work with stakeholders to initiate a process for addressing cross-connections and backflow prevention requirements, and for considering additional distribution system requirements related to significant health risks.

The 1996 Amendments to the Safe Drinking Water Act (SDWA) (Section 1412(b) (9)) require the Administrator to review and revise, as appropriate, each national primary drinking water regulation no less often than every six years. As indicated in the Six-Year Review Notice of Intent (67 FR 19030, April 17, 2002), EPA believes that an opportunity for implementation burden reduction exists in revising the TCR; the Agency plans to assess the effectiveness of the current TCR in reducing public health risk and what technically supportable alternative/additional monitoring strategies are available to reduce implementation costs while maintaining or improving public health protection.

In July 2003, EPA published, as part of its final National Primary Drinking Water Regulation (NPDWR) Review (i.e., Six-Year Review), its decision to revise the TCR (68 FR 42907, July 18, 2003). In that action, the Agency also stated that it plans to consider potential new requirements for ensuring the integrity of distribution systems.

To initiate the revision process, EPA has compiled available information on the potential public health impacts of a range of distribution system issues and has also compiled information on issues with the existing TCR requirements where opportunities may exist for reductions in the implementation burden, while maintaining or improving public health protection. EPA has also compiled information and conducted workshops on determining the potential exposures resulting from contamination of the finished water in the distribution system.

In this notice, EPA is announcing that the Agency is convening a technical workshop to discuss available data on understanding risks in drinking water distribution systems, as well as to discuss data to characterize potential TCR implementation problems. As part of this workshop, EPA is seeking information and analytic approaches for characterizing risks posed by the distribution system. Major topics of discussion in the workshop may include public health perspectives on distribution systems, distribution system physical integrity and water quality issues such as cross connections, backflow, intrusion, and biofilm, and TCR implementation and compliance analysis.

Depending on the outcome of the workshop, EPA will consider convening a Federal Advisory Committee to provide advice and recommendations on how best to utilize available information for potential revisions to the TCR and to address public health risk from contamination of distribution systems.

Membership on Potential Federal Advisory Committee: If EPA were to establish a Federal Advisory Committee, the Agency would consider for membership stakeholders with viewpoints on issues related to distribution systems and the TCR and the potential impact that could result from an Agency action on those issues including, but not be limited to, representatives of Federal, State and local public health and regulatory agencies, Native American tribes, large and small drinking water suppliers, consumer, environmental and public health organizations, and local elected officials. EPA encourages those organizations and individuals interested in participating in the potential Federal Advisory Committee to attend the workshop.

EPA anticipates that, if a Federal Advisory Committee is established, the terms of the members would likely be two years. EPA anticipates that meetings would be held at least quarterly, with additional conference calls in between the meetings.

Nomination of a Member: Any interested person or organization may nominate individuals for membership. Nominees should be identified by name, occupation, position, address and telephone number. To be considered, all nominations must include a current resume providing the nominee's background, experience, and qualifications.

If a Federal Advisory Committee were to be established, copies of the Committee Charter would be filed with the appropriate congressional committees and the Library of Congress and the establishment of a Committee would be announced in a separate Federal Register Notice (FRN). The Agency expects to address proposed revisions to the TCR and any additional distribution system requirements in a separate FRN.

Special Accommodations

Any person needing special accommodations at the technical workshop, including wheelchair access, should contact Jini Mohanty at the number or email address listed in the FOR FURTHER INFORMATION CONTACT section of this notice. Requests for special accommodations should be made at least ten days in advance of the meeting.

Dated: December 21, 2006.
Cynthia C. Dougherty,
Director, Office of Ground Water and Drinking Water.

[FR Doc. E6-22302 Filed 12-27-06; 8:45 am]

BILLING CODE 6560-50-P